DEPARTMENT OF STATE

[Public Notice 7412]

Determination Under Section 602(q) of the Foreign Assistance Act of 1961, as Amended, Relating to Assistance to Antigua and Barbuda

Pursuant to the authority vested in me by Section 620(q) of the Foreign Assistance Act of 1961, as amended (FAA), Executive Order 12163, as amended by Executive Order 13346, and Delegation of Authority 245-1, I hereby determine the continued assistance to Antigua and Barbuda from the date upon which the restriction took effect is in the national interest of the United States and thereby waive the application of section 620(q) of the FAA for such assistance.

This Determination shall be reported to Congress and published in the Federal Register.

Dated: March 18, 2011.
Thomas R. Nides,
Deputy Secretary of State for Management and Resources.

[FR Doc. 2011-8722 Filed 4-11-11; 8:45 am]

BILLING CODE 4710-29-P